FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 8, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-0775.

Title: Section 64.1903 Obligations of All Incumbent Local Exchange Carriers.

Form Number: N/A.

Type of Review: Extension of a currently approved collection.

Respondents: Business or other for-profit.

Number of Respondents: 510 respondents; 510 responses.

Estimated Time per Response: 500 hours to 6,056 hours.

Frequency of Response: Recordkeeping requirements.

Obligation to Respond: Mandatory. Statutory authority for this information collection is contained in 47 U.S.C. sections 151, 152, 154, 201, 202, 251, 271, 272, and 303(r) of the Communications Act of 1934, as amended.

Total Annual Burden: 310,560 hours.

Total Annual Cost: $15,217,440.

Privacy Impact Assessment: N/A

Nature and Extent of Confidentiality: There is no need for confidentiality.

Needs and Uses: The Commission will submit this collection to the OMB for approval of an extension in order to obtain the three year clearance from them. There is no change in the recordkeeping requirement. There is no change in the Commission's previous burden estimates. The Commission imposed recordkeeping requirements on independent local exchange carriers (LECs). Independent incumbent LECs wishing to offer international, interexchange services must comply with the requirements of the Competitive Carrier Fifth Report and Order, CC Docket Nos. 96-149 and 96-61. One of the requirements is that the independent incumbent LEC's international, interexchange affiliate (for facilities-based providers of international, interexchange services) must maintain books of account separate from such LEC's local exchange and other activities. See 47 CFR 64.1903 for the specific recordkeeping requirements.

This recordkeeping requirement is used by the Commission to ensure that independent incumbent LECs that provide international, interexchange services do so in compliance with the Communications Act, as amended, and with Commission policies and regulations.

OMB Control Number: 3060-1044.

Title: Review of the Section 251 Unbundling Obligations of Incumbent Local Exchange Carriers, CC Docket No. 01-338 and WC Docket No. 04-313, Order on Remand.

Form Number: N/A.

Type of Review: Extension of a currently approved collection.

Respondents: Business or other for-profit entities, not-for-profit institutions and state, local or tribal government.

Number of Respondents: 645 respondents; 645 responses.

Estimated Time per Response: 8 hours.

Frequency of Response: Recordkeeping requirement, third party disclosure requirement and on occasion reporting requirement.

Obligation to Respond: Required to obtain or retain benefits. Statutory authority for this information collection is contained in 47 U.S.C. section 251 of the Communications Act of 1934, as amended.

Total Annual Burden: 5,160 hours.

Total Annual Cost: N/A.

Privacy Impact Assessment: N/A.

Nature and Extent of Confidentiality: The Commission is not requesting respondents to submit or disclose confidential information. However, in certain circumstances, respondents may voluntarily choose to submit confidential information pursuant to applicable confidentiality rules.

Needs and Uses: In the Order on Remand, the Commission imposes unbundling obligations in a more targeted manner where requesting carriers have undertaken their own facilities-based investments and will be using UNEs (unbundled network elements) in conjunction with self-provisioned facilities. The Commission also eliminated the subdelegated of authority to state commissions adopted in the previous order.

Prior to the issuance of the Order, the Commission sought comment on issues relating to combinations of UNEs, called “enhanced extended links” (EELs), in order to effectively tailor access to EELs to those carriers seeking to provide significant local usage to end users. In the Order, the Commission adopted three specific service eligibility criteria for access to EELs, which are important to assure that requesting carriers may not obtain EELs if they do not provide services to UNEs under the Commission's rules.

OMB Control Number: 3060-1096.

Title: Prepaid Calling Card Service Provider Certification, WC Docket No. 05-68.

Form Number: N/A.

Type of Review: Extension of a currently approved collection.

Respondents: Business or other for-profit entities.

Number of Respondents: 121 respondents; 1,452 responses.

Estimated Time per Response: 2.5 hours to 20 hours.

Frequency of Response: Quarterly reporting requirement, third party disclosure requirement and recordkeeping requirement.

Obligation to Respond: Mandatory. Statutory authority for this information collection is contained in 47 U.S.C. sections 151, 152, 154(i), 201, 202 and 254 of the Communications Act of 1934, as amended.

Total Annual Burden: 12,100 hours.

Total Annual Cost: N/A.

Privacy Impact Assessment: N/A.

Nature and Extent of Confidentiality: The Commission does not anticipate providing confidentiality of the information submitted by prepaid calling card providers. Particularly, the prepaid calling card providers must send reports to their transport providers. Additionally, the quarterly certifications sent to the Commission will be made public through the Commission's Electronic Comment Filing System (ECFS) process. These certifications will be filed in the Commission's docket associated with this proceeding. If the respondents submit information they believe to be confidential, they may request confidential treatment of such information under 47 CFR 0.459 of the Commission's rules.

Needs and Uses: The Commission will submit this expiring information collection during this comment period to obtain the three year clearance from the Office of Management and Budget (OMB). The Commission is requesting approval for an extension (no change in the reporting, recordkeeping and/or third party disclosure requirements. The Commission is reporting a 3,700 burden reduction adjustment which is due to fewer respondents. This is due in part to consolidation in the telecommunications market and/or providers exiting the telecommunications market.

Prepaid calling card service providers must report quarterly the percentage of interstate, intrastate and international access charges to carriers from which they purchase transport services. Prepaid calling card providers must also file certifications with the Commission quarterly that include the above information and a statement that they are contributing to the federal Universal Service Fund based on all interstate and international revenue, except for revenue from the sale of prepaid calling cards by, to, or pursuant to contract with the Department of Defense (DoD) or a DoD entity.

OMB Control Number: 3060-0537.

Title: Sections 13.9(c), 13.13(c), 13.17(b), 13.211(e) and 13.217, Commercial Operator License Examination Managers (COLEM) Records.

Form Number: N/A.

Type of Review: Revision of a currently approved collection.

Respondents: Business or other for-profit entities.

Number of Respondents: 9 respondents; 9 responses.

Estimated Time per Response: .44 hours to 30 hours.

Frequency of Response: On occasion and semi-annual reporting requirements and recordkeeping requirements.

Obligation to Respond: Required to obtain or retain benefits. Statutory authority for this information collection is contained in 47 U.S.C. sections 154 and 303 of the Communications Act of 1934, as amended.

Total Annual Burden: 14,796 hours.

Total Annual Cost: N/A.

Privacy Impact Assessment: N/A.

Nature and Extent of Confidentiality: There is no need for confidentiality.

Needs and Uses: The Commission will submit this expiring information collection during this comment period to obtain the full, three year clearance from the Office of Management and Budget (OMB). The Commission is requesting OMB approval for a revision of this information collection. There are changes to the Commission's previous burden estimates. The total annual burden has increased (program change increase) by 14,787 hours from 9 hours. This is due to revision of the Commission's rules in Report and Order, FCC 13-4 which added rule sections 13.9, 13.13, 13.17 and 13.211 to this collection.

On January 8, 2013, the Federal Communications Commission (FCC), in an effort to clarify, streamline or eliminate its rules in order to reduce administrative burdens in the telecommunications industry. The FCC adopted a Report and Order, FCC 13-4, amending its rules concerning Commercial Radio Operator licensees for maritime and aviation radio stations. Of those rules adopted, some have recordkeeping and/or reporting requirements for holders of commercial radio licenses, as well as for Commercial Operator License Examination Managers (COLEM(s)) that administer commercial radio operator license examinations across the United States. In this proceeding, the Commission seeks OMB approval for the burdens contained in the R&O, which implements a number of actions the FCC has taken.

Each COLEM recovering fees from examinees must maintain records of expenses and revenues, frequency of examinations administered, and examination pass rates. Records must cover from January 1 to December 31 of the preceding year and must be submitted as directed by the FCC. Each COLEM must retain records for one year and the records must be made available to the FCC upon request.

Federal Communications Commission.
Marlene H. Dortch,
Secretary.

[FR Doc. 2013-08021 Filed 4-5-13; 8:45 am]

BILLING CODE 6712-01-P